DEPARTMENT OF COMMERCE

National Oceanic and Atmospheric Administration

[I.D. 101503A]

Proposed Information Collection; Comment Request; Applications and Reporting Requirements for Small Take of Marine Mammals by Specified Activities Under the Marine Mammal Protection Act

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 19, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Kenneth R. Hollingshead, fishery biologist, Office of Protected Resources, National Marine Fisheries Service, 1315 East-West Highway, Silver Spring, MD 20910-3225 (telephone 301-713-2055, ext 128).

SUPPLEMENTARY INFORMATION:

I. Abstract

The taking by harassment, injury, or mortality of marine mammals is prohibited by the Marine Mammal Protection Act (MMPA) unless exempted or authorized by permit. The incidental-take program authorizes the taking of marine mammals incidental to maritime activities (military, oil industry, oceanographic research). It is the responsibility of the activity to determine if it might have a “taking” and, if it does, to apply for an authorization. Applications are necessary for NOAA to know that an authorization is needed and to determine whether authorization can be made under the MMPA. Reporting requirements are mandated by the MMPA and are necessary to ensure that determinations made in regard to the impact on marine mammals are valid.

II. Method of Collection

Information is supplied in response to regulations or other guidance. No forms are involved.

III. Data

OMB Number: 0648-0151.

Form Number: None.

Type of Review: Regular submission.

Affected Public: Business or other for-profit organizations; not-for-profit institutions; Federal government; and State, Local, or Tribal Government.

Estimated Number of Respondents: 67.

Estimated Time Per Response: 483 hours for a request for new or the renewal of regulations; 45 hours for an application for Letter of Authorization (response times vary significantly based on the complexity of the application); 200 hours for an application for an Incidental Harassment Authorization; and 93-120 hours for a 90-day, quarterly, or annual report under a Letter of Authorization or Incidental Harassment Authorization.

Estimated Total Annual Burden Hours: 15,912.

Estimated Total Annual Cost to Public: $24,200.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 14, 2003.
Gwellnar Banks,
Management Analyst, Office of the Chief Information Officer.

[FR Doc. 03-26397 Filed 10-17-03; 8:45 am]

BILLING CODE 3510-22-S